NUCLEAR REGULATORY COMMISSION

[NRC-2019-0001]

Sunshine Act Meetings

TIME AND DATE: Week of June 17, 2019.

PLACE: Commissioners' Conference Room, 11555 Rockville Pike, Rockville, Maryland.

STATUS: Public and Closed.

MATTERS TO BE CONSIDERED:

Week of June 17, 2019

Tuesday, June 18, 2019

9:55 a.m. Affirmation Session (Public Meeting) (Tentative)

Exelon Generation Co., LLC (Oyster Creek Nuclear Generating Station), Requests for Hearing in License Transfer Proceeding (Tentative)

This meeting will be webcast live at the Web address— http://www.nrc.gov/.

10:00 a.m. Briefing on Human Capital and Equal Employment Opportunity (Public Meeting) (Contact: Jason Lising: 301-287-0569)

This meeting will be webcast live at the Web address— http://www.nrc.gov/.

Thursday, June 20, 2019

10:00 a.m. Briefing on Results of the Agency Action Review Meeting (Public Meeting) (Contact: Andrea Mayer: 301-415-1081)

This meeting will be webcast live at the Web address— http://www.nrc.gov/.

Additional Information: By a vote of 4-0 on June 13 and 14, 2019, the Commission determined pursuant to U.S.C. 552b(e) and '9.107(a) of the Commission's rules that the above referenced Affirmation Session be held with less than one week notice to the public. The meeting is scheduled on June 18, 2019.

CONTACT PERSON FOR MORE INFORMATION: For more information or to verify the status of meetings, contact Denise McGovern at 301-415-0681 or via email at Denise.McGovern@nrc.gov. The schedule for Commission meetings is subject to change on short notice.

The NRC Commission Meeting Schedule can be found on the internet at: http://www.nrc.gov/public-involve/public-meetings/schedule.html.

The NRC provides reasonable accommodation to individuals with disabilities where appropriate. If you need a reasonable accommodation to participate in these public meetings or need this meeting notice or the transcript or other information from the public meetings in another format (e.g., Braille, large print), please notify Kimberly Meyer-Chambers, NRC Disability Program Manager, at 301-287-0739, by videophone at 240-428-3217, or by email at Kimberly.Meyer-Chambers@nrc.gov. Determinations on requests for reasonable accommodation will be made on a case-by-case basis.

Members of the public may request to receive this information electronically. If you would like to be added to the distribution, please contact the Nuclear Regulatory Commission, Office of the Secretary, Washington, DC 20555 (301-415-1969), or by email at Wendy.Moore@nrc.gov.

Dated at Rockville, Maryland, this 14th day of June 2019.
For the Nuclear Regulatory Commission.
Denise L. McGovern,
Policy Coordinator, Office of the Secretary.

[FR Doc. 2019-13043 Filed 6-14-19; 4:15 pm]

BILLING CODE 7590-01-P